DEPARTMENT OF COMMERCE

National Oceanic and Atmospheric Administration

RIN 0648-XD263

North Pacific Fishery Management Council; Public Meetings

AGENCY: National Marine Fisheries Service (NMFS), National Oceanic and Atmospheric Administration (NOAA), Commerce.

ACTION: Notice of public meetings.

SUMMARY: The North Pacific Fishery Management Council's (Council) Electronic Monitoring (EM) workgroup will meet in Anchorage, AK.

DATES: The meetings will be held May 15-16, 2014, from 1 p.m. to 5 p.m. on the 15th and 8:30 a.m. to 5 p.m. on the 16th.

ADDRESSES: The meetings will be held at the Clarion Suites, 1110 W. 8th Avenue, Heritage Room, Anchorage, AK.

Council address: North Pacific Fishery Management Council, 605 W. 4th Ave., Suite 306, Anchorage, AK 99501-2252.

FOR FURTHER INFORMATION CONTACT: Diana Evans, Council staff; telephone: (907) 271-2809.

SUPPLEMENTARY INFORMATION: The workgroup will review study designs for the different research tracks going forward as part of the 2014-15 EM cooperative research program, and providing input on data protocols. The Workgroup will also review how the research will inform the Council's objectives for estimating catch and discards, and will identify a timeline, milestones, and decision points for integrating EM into the Observer Program.

The Agenda is subject to change, and the latest version will be posted at http://www.npfmc.org/.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: April 22, 2014.
Tracey L. Thompson,
Acting Deputy Director, Office of Sustainable Fisheries, National Marine Fisheries Service.

[FR Doc. 2014-09428 Filed 4-24-14; 8:45 am]

BILLING CODE 3510-22-P